Title 3—

The President

Proclamation 8387

Lesbian, Gay, Bisexual, And Transgender Pride Month, 2009

By the President of the United States of America

A Proclamation

[Editorial Note: Proclamation 8387, originally published on pages 26927-26930 in the Federal Register of Thursday, June 4, 2009, is being reprinted with a White House correction.]

Forty years ago, patrons and supporters of the Stonewall Inn in New York City resisted police harassment that had become all too common for members of the lesbian, gay, bisexual, and transgender (LGBT) community. Out of this resistance, the LGBT rights movement in America was born. During LGBT Pride Month, we commemorate the events of June 1969 and commit to achieving equal justice under law for LGBT Americans.

LGBT Americans have made, and continue to make, great and lasting contributions that continue to strengthen the fabric of American society. There are many well-respected LGBT leaders in all professional fields, including the arts and business communities. LGBT Americans also mobilized the Nation to respond to the domestic HIV/AIDS epidemic and have played a vital role in broadening this country’s response to the HIV pandemic.

Due in no small part to the determination and dedication of the LGBT rights movement, more LGBT Americans are living their lives openly today than ever before. I am proud to be the first President to appoint openly LGBT candidates to Senate-confirmed positions in the first 100 days of an Administration. These individuals embody the best qualities we seek in public servants, and across my Administration—in both the White House and the Federal agencies—openly LGBT employees are doing their jobs with distinction and professionalism.

The LGBT rights movement has achieved great progress, but there is more work to be done. LGBT youth should feel safe to learn without the fear of harassment, and LGBT families and seniors should be allowed to live their lives with dignity and respect.

My Administration has partnered with the LGBT community to advance a wide range of initiatives. At the international level, I have joined efforts at the United Nations to decriminalize homosexuality around the world. Here at home, I continue to support measures to bring the full spectrum of equal rights to LGBT Americans. These measures include enhancing hate crimes laws, supporting civil unions and Federal rights for LGBT couples, outlawing discrimination in the workplace, ensuring adoption rights, and ending the existing “Don’t Ask, Don’t Tell” policy in a way that strengthens our Armed Forces and our national security. We must also commit ourselves to fighting the HIV/AIDS epidemic by both reducing the number of HIV infections and providing care and support services to people living with HIV/AIDS across the United States.

These issues affect not only the LGBT community, but also our entire Nation. As long as the promise of equality for all remains unfulfilled, all Americans are affected. If we can work together to advance the principles upon which our Nation was founded, every American will benefit. During LGBT Pride Month, I call upon the LGBT community, the Congress, and the American people to work together to promote equal rights for all, regardless of sexual orientation or gender identity.

NOW, THEREFORE, I, BARACK OBAMA, President of the United States of America, by virtue of the authority vested in me by the Constitution and laws of the United States, do hereby proclaim June 2009 as Lesbian, Gay, Bisexual, and Transgender Pride Month. I call upon the people of the United States to turn back discrimination and prejudice everywhere it exists.

IN WITNESS WHEREOF, I have hereunto set my hand this first day of June, in the year of our Lord two thousand nine, and of the Independence of the United States of America the two hundred and thirty-third.

[FR Doc. E9-13819

Filed 6-9-09; 11:15 am]

Billing code 3195-W9-P